OFFICE OF THE UNITED STATES TRADE REPRESENTATIVE

Identification of Countries Under Section 182 of the Trade Act of 1974: Request for Public Comment

AGENCY: Office of the United States Trade Representative.

ACTION: Request for written submissions from the public.

SUMMARY: Section 182 of the Trade Act of 1974 (Trade Act) (19 U.S.C. 2242), requires the United States Trade Representative (USTR) to identify countries that deny adequate and effective protection of intellectual property rights or deny fair and equitable market access to U.S. persons who rely on intellectual property protection. Section 182 is commonly referred to as the “Special 301” provisions in the Trade Act. In addition, USTR is required to determine which of those countries should be identified as Priority Foreign Countries. On May 1, 2003, USTR announced the results of the 2003 Special 301 review and stated that an Out-of-Cycle Review (OCR) would be conducted in the fall for the Republic of Korea. USTR requests written comments from the public concerning the acts, policies, and practices relevant for this review under section 182 of the Trade Act.

DATES: Submissions must be received on or before 12 noon on Monday, October 27, 2003.

ADDRESSES: All comments should be sent to Sybia Harrison, Special Assistant to the Section 301 Committee, at the following e-mail address: FR0100@USTR.GOV, with “Special 301 Out-of-Cycle Review” in the subject line. Please not, only electronic submissions will be accepted.

FOR FURTHER INFORMATION CONTACT: Mark Wu, Director for Intellectual Property, (202) 395-6864; or Victoria Espinel, Associate General Counsel, (202) 395-7305, Office of the United States Trade Representative.

SUPPLEMENTARY INFORMATION: Pursuant to section 182 of the Trade Act, USTR must identify those countries that deny adequate and effective protection for intellectual property rights or deny fair and equitable market access to U.S. persons who rely on intellectual property protection. Those countries that have the most onerous or egregious acts, policies, or practices and whose acts, policies, or practices have the greatest adverse impact (actual or potential) on relevant U.S. products may be identified as Priority Foreign Countries. Acts, policies, or practices that are the basis of a country's designation as a Priority Foreign Country are normally the subject of an investigation under the section 301 provisions of the Trade Act.

On May 1, 2003, USTR announced the results of the 2003 Special 301 review, including an announcement that an Out-of-Cycle Review (OCR) would be conducted in the fall for the Republic of Korea. Additional countries may also be reviewed as a result of the comments received pursuant to this notice, or as warranted by events.

Requirements for Comments: Comments should include a description of the problems experienced and the effect of the acts, policies, and practices on U.S. industry. Comments should be as detailed as possible and should provide all necessary information for assessing the effect of the act, policies, and practice. Any comments that include quantitative loss claims should be accompanied by the methodology used in calculating such estimated losses.

Comments must be in English and sent electronically. No submissions will be accepted via postal service mail. Documents should be submitted as either WordPerfect, MS Word, or text (.TXT) files. Supporting documentation submitted as spreadsheets are acceptable as Quattro Pro or Excel files. A submitter requesting that information contained in a comments be treated as confidential business information must certify that information is business confidential and would not customarily be released to the public by the submitter. A non-confidential information, the file name of the business confidential version should begin with the characters “BC-”, and the file name of the public version should begin with the character “P-”. The “P” or “B” should be followed by the name of the submitter. Submissions should not include separate cover letters; information that might appear in a cover letter should be included in the submission itself. To the extent possible,any attachments to the submission should be included in the same file as the submission itself, and not as separate files.

All comments should be sent to Sybia Harrison, Special Assistant to the section 301 Committee, at the following e-mail address: FR0100@USTR. GOV, with “Special 301 Out-of-Cycle Review” in the subject line. Please note, only electronic submissions will be accepted.

Public Inspection of Submissions: Within one business day of receipt, non-confidential submissions will be placed in a public file, open for inspection at the USTR reading room, Office of the United States Trade Representative, Annex Building, 1724 F Street, NW., Room 1, Washington, DC. An appointment to review the file must be scheduled at least 48 hours in advance and may be made by calling Harry Simpson at (202) 395-6186. The USTR reading room is open to the public from 10 a.m. to 12 noon and from 1 p.m. to 4 p.m., Monday through Friday.

Mark Wu,
Director for Intellectual Property.

[FR Doc. 03-25057 Filed 10-2-03; 8:45 am]

BILLING CODE 3190-01-M